DEPARTMENT OF ENERGY

Federal Energy Regulatory Commission

[Docket No. RP03-493-000]

Columbia Gas Transmission Corporation; Notice of Proposed Changes in FERC Gas Tariff

June 3, 2003.

Take notice that on May 30, 2003, Columbia Gas Transmission Corporation (Columbia) tendered for filing as part of its FERC Gas Tariff, Second Revised Volume No. 1, the following tariff sheets, with a proposed effective date of July 1, 2003:

Eighth Revised Sheet No. 280

Original Sheet No. 280A

Third Revised Sheet No. 485

Fourth Revised Sheet No. 501

Original Sheet No. 501A

First Revised Sheet No. 502A

Fourth Revised Sheet 503

Original Sheet No. 503A

First Revised Sheet No. 505A

Third Revised Sheet No. 511

Columbia states that it is submitting this filing to include in its Tariff new provisions permitting Columbia to agree with its shippers, on a not unduly discriminatory basis, to a contractual right of first refusal (ROFR), equivalent to the ROFR right set forth from time to time in section 4 of the General Terms and Conditions of its Tariff, for service agreements that have a term of 12 or more consecutive months of service but bear a rate that is either discounted or negotiated.

Columbia states that copies of its filing have been mailed to all firm customers, interruptible customers and affected state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 11, 2003.
Magalie R. Salas,
Secretary.

[FR Doc. 03-14514 Filed 6-9-03; 8:45 am]

BILLING CODE 6717-01-P